DEPARTMENT OF DEFENSE

Office of the Secretary

Notification of an Open Meeting of the National Defense University Board of Visitors (BOV); Cancellation of Meeting

AGENCY: National Defense University, DoD.

ACTION: Notice of open meeting; cancellation of meeting.

SUMMARY: On Thursday, September 19, 2013 (78 FR 57623), the Department of Defense published a notice announcing meetings of the National Defense University Board of Visitors that were to take place on Tuesday, October 8, 2013 and Wednesday, October 9, 2013. This notice announces that the meetings of October 8, 2013 and October 9, 2013 were cancelled due to an absence of appropriations.

FOR FURTHER INFORMATION CONTACT: The point of contact for this notice of open meeting is Ms. Joycelyn Stevens at (202) 685-0079, Fax (202) 685-3920 or StevensJ7@ndu.edu.

SUPPLEMENTARY INFORMATION: Due to the lapse of appropriations, the Department of Defense cancelled the meeting of the National Defense University Board of Visitors on October 8-9, 2013. As a result, the Department of Defense was unable to provide appropriate notification as required by 41 CFR 102-3.150(a). Therefore, the Advisory Committee Management Officer for the Department of Defense, pursuant to 41 CFR 102-3.150(b), waives the 15-calendar day notification requirement.

Dated: October 18, 2013.
Aaron Siegel,
Alternate OSD Federal Register Liaison Officer, Department of Defense.

[FR Doc. 2013-24911 Filed 10-23-13; 8:45 a.m.]

BILLING CODE 5001-06-P